POSTAL SERVICE

39 CFR Part 111

Merchandise Return Service Label Changes

AGENCY: Postal Service.

ACTION: Proposed rule.

SUMMARY: The Postal Service proposes revisions to the Domestic Mail Manual that would require a Postal routing barcode on all Merchandise Return Service labels.

DATES: Submit comments on or before August 25, 2003.

ADDRESSES: Mail or deliver written comments to the Manager, Mail Preparation and Standards, U. S. Postal Service, 1735 N. Lynn Street, Room 3025, Arlington, VA 22209-6038. Copies of all written comments will be available for inspection and photocopying between 9 a.m. and 4 p.m., Monday through Friday, at Postal Service Headquarters Library, 475 L'Enfant Plaza SW, 11 Floor N, Washington, DC 20260. Comments may be submitted via fax to 703-292-4058, ATTN: Obataiye B. Akinwole or via email to obataiye.b.akinwole@usps.gov.

FOR FURTHER INFORMATION CONTACT: Obataiye B. Akinwole, (703) 292-3643.

SUPPLEMENTARY INFORMATION:

Background

Under current Postal Service standards, there is no requirement for barcodes on Merchandise Return Service (MRS) labels with the exception of those using Delivery Confirmation Service.

The Postal Service is concerned that optimum service may not be realized when MRS labels are not barcoded. As a result, the Postal Service will, upon publication of a final rule, require a Postal routing barcode that represents the correct 5-digit ZIP Code information for the delivery address of the MRS label. This is in line with the Postal Service's obligation to ensure prompt, efficient service for all product lines.

Effective Date

The Postal Service is proposing that the following revisions become effective January 5, 2004. Mailers are permitted to prepare labels under the revised standards immediately upon publication of the final rule. Effective with required compliance on June 2, 2005 nonbarcoded labels will not be accepted.

Proposed Changes

Under this proposal, all MRS labels must include a properly prepared barcode that represents the correct ZIP Code information for the delivery address on the MRS label plus the appropriate verifier character suffix or application identifier prefix characters appropriate for the barcode symbology as described in Domestic Mail Manual (DMM) C850 for machinable parcels. Effective January 10, 2004, only the UCC/EAN Code 128 symbology may be used for all parcel barcodes. All mailable hazardous materials sent at First-Class Mail, Priority Mail, or Express rates are exempt from this standard.

The Postal Service is replacing the Small Parcel and Bundle Sorter (SPBS) with the new Automated Parcel Processing System (APPS). The APPS machine is capable of processing small parcels that would normally by pass Bulk Mail Center (BMC) operations, at more than twice the efficiency of the SBPS machine. This machine is capable of reading a variety of barcode symbologies. As a result, customers distributing labels for parcels that will bypass the BMC environment must use the standards in this notice.

Mailers using Delivery Confirmation Service (DelCon) must use a single concatenated barcode that combines the postal routing code and Delivery Confirmation using the symbologies in DMM C850. Delivery Confirmation Service is not mandatory; however, customers using the service option must use the label format in this notice.

Mailers will be required to submit 10 samples of new labels to the office where the permit was originally issued no later than the next anniversary date of the permit, or within six months of the effective date of this notice, whichever occurs last. Although customers will not be required to provide samples when MRS labels are reprinted, it is recommended that they work with their local office to ensure pieces meet postal standards.

Although exempt from the notice and comment requirements of the Administrative Procedure Act [5 U.S. C. of 553 (b), (c)] regarding proposed rulemaking by 39 U.S.C. 410(a), the Postal Service invites public comment of the following proposed revisions to the DMM, incorporated by reference in the Code of Federal Regulations. See 39 CFR 111.1.

List of Subjects in 39 CFR Part 111

Administrative practice and procedure, Postal Service.

PART 111—[AMENDED]

1. The authority citation for 39 CFR Part 111 continues to read as follows:

Authority: 5 U.S. C. 552(a); 39 U.S.C. 101, 401,403,404,414,3001-3011,3201-3219, 3403-3406, 3621, 3626, 5001.

2. Revise the following sections of the Domestic Mail Manual (DMM) as set forth below:

Domestic Mail Manual (DMM)

* * * * *

S Special Services

S900 Special Postal Services

* * * * *

S920 Convenience

* * * * *

S923 Merchandise Return Service

* * * * *

5.0 FORMAT

* * * * *

5.6 Format Elements

* * * * *

[Add new item j to read as follows:]

j. Every MRS label must include a properly prepared barcode that represents the correct ZIP Code information for the delivery address on the label plus the appropriate verifier character suffix or application identifier prefix characters appropriate for the barcode symbology as described in C850 for machinable parcels. MRS labels with Delivery Confirmation items must use a single concatenated barcode as described in C850. In addition to the barcode requirements in C850, the following requirement must be met in preparing MRS labels:

(1) Barcode Location. If a separate label is used, a minimum clear zone of ⅛ inch must be maintained on all sides of the barcode. If a barcoded label is used it must be placed either above the delivery address and to the right of the return address or to the left of the delivery address. In all cases the barcode must be placed on the address side and not overlap any adjacent item. The barcode must be parallel to the address as read.

* * * * *

Exhibit 5.6a Merchandise Return Label With No Special Services or With Insurance, Special Handling, or Pickup Service (see 5.6d)

[Revise Exhibit 5.6a as follows:]

* * * * *

[Add new Exhibit 5.6e to read as follows:]

Exhibit5.6e Merchandise Return Label With a Single Concatenated Barcode

* * * * *

We will publish appropriate amendment to 39 CFR 11.3 to reflect the changes if the proposal is adopted.

Stanley F. Mires,
Chief Counsel, Legislative.

[FR Doc. 03-18996 Filed 7-24-03; 8:45 am]

BILLING CODE 7710-12-P